NATIONAL SCIENCE FOUNDATION

Committee Management; Renewal

The National Science Foundation (NSF) management officials having responsibility for the Advisory Committee for Environmental Research and Education (#9487) have determined that renewing this committee for another two years is necessary and in the public interest in connection with the performance of duties imposed upon the Director, National Science Foundation (NSF), by 42 U.S.C. 1861 et seq. This determination follows consultation with the Committee Management Secretariat, General Services Administration.

Effective date for renewal is April 19, 2004. For more information, please contact Susanne Bolton, NSF, at (703) 292-7488.

Dated: April 1, 2003.
Susanne Bolton,
Committee Management Officer.

[FR Doc. 04-7755 Filed 4-5-04; 8:45 am]

BILLING CODE 7555-01-M